Title 3—

The President

Proclamation 9611 of May 15, 2017

Peace Officers Memorial Day and Police Week, 2017

By the President of the United States of America

A Proclamation

During Peace Officers Memorial Day and Police Week, we honor the men and women of law enforcement who have been killed or disabled in the course of serving our communities. Police officers are the thin blue line whose sacrifices protect and serve us every day, and we pledge to support them as they risk their lives to safeguard ours.

Last year, 118 officers died in the line of duty, and of those, 66 were victims of malicious attacks. These attacks increased by nearly 40 percent from 2015. This must end. That is why one of my first actions was to direct the Department of Justice to develop a strategy to better prevent and prosecute crimes of violence against our Federal, State, tribal, and local law enforcement officers.

In addition, my Administration will continue to further the efforts of the Department of Justice to improve the lives of law enforcement officers and their families. This includes supporting the Officer Safety and Wellness Group, which improves officer safety on the job, and accelerating the processing of benefits through the Public Safety Officers' Benefits Program, which provides vital resources to the families of fallen officers.

Our liberties depend on the rule of law, and that means supporting the incredible men and women of law enforcement. By a joint resolution approved October 1, 1962, as amended (76 Stat. 676), and by Public Law 103-322, as amended (36 U.S.C. 136 and 137), the President has been authorized and requested to designate May 15 of each year as “Peace Officers Memorial Day” and the week in which it falls as “Police Week.”

NOW, THEREFORE, I, DONALD J. TRUMP, President of the United States of America, do hereby proclaim May 15, 2017, as Peace Officers Memorial Day and May 14 through May 20, 2017, as Police Week. In humble appreciation of our hard-working law enforcement officers, Melania and I will light the White House in blue on May 15. I call upon all Americans to observe Peace Officers Memorial Day and Police Week with appropriate ceremonies and activities. I also call on the Governors of the States and Territories and officials of other areas subject to the jurisdiction of the United States, to direct that the flag be flown at half-staff on Peace Officers Memorial Day. I further encourage all Americans to display the flag at half-staff from their homes and businesses on that day.

IN WITNESS WHEREOF, I have hereunto set my hand this fifteenth day of May, in the year of our Lord two thousand seventeen, and of the Independence of the United States of America the two hundred and forty-first.

[FR Doc. 2017-10313

Filed 5-17-17; 11:15 am]

Billing code 3295-F7-P